GOVERNMENT ACCOUNTABILITY OFFICE

Comptroller General's Advisory Council on Standards for Internal Control in the Federal Government; Notice of Meeting

AGENCY: Government Accountability Office.

ACTION: Notice of meeting.

SUMMARY: The Comptroller General's Advisory Council on Standards for Internal Control in the Federal Government will hold a meeting on Tuesday, March 12, 2024, from 11:00 a.m. to 2:00 p.m. to discuss proposed updates and revisions to the Standards for Internal Control in the Federal Government (known as the Green Book). The meeting will be virtual and is open to the public.

DATES: The meeting will be held on Tuesday, March 12, 2024, from 11:00 a.m. to 2:00 p.m.

ADDRESSES: The meeting will be virtual only.

FOR FURTHER INFORMATION CONTACT: For further information on the meeting or the Green Book, please contact Carrie Morrison, Assistant Director, Financial Management and Assurance, MorrisonC@gao.gov or (202) 512-4689. To request a reasonable accommodation (RA) for this meeting, email GAO's RA office at ReasonableAccommodations@gao.gov. Please request all accommodations at least 5 business days prior to the meeting (by March 5th).

SUPPLEMENTARY INFORMATION: Any interested person may attend the virtual meeting as an observer. Members of the public will have an opportunity to address the Council with brief (5 minute) presentations on matters directly related to the proposed updates and revisions. Any interested person who plans to attend the virtual meeting as an observer must contact Carrie Morrison, Assistant Director, at (202) 512-4689, before March 5, 2024. The meeting agenda will be available upon request one week before the meeting.

Authority: 31 U.S.C. 3512(c), (d).

James Dalkin,
Director, Financial Management and Assurance, U.S. Government Accountability Office.

[FR Doc. 2024-03494 Filed 2-20-24; 8:45 am]

BILLING CODE 1610-02-P